DEPARTMENT OF LABOR

Employment and Training Administration

Proposed Collection; Comment Request

ACTION: Notice.

SUMMARY: The Department of Labor, as part of its continuing effort to reduce paperwork and respondent burden, is conducting a pre-clearance consultation program to provide the general public and Federal agencies with an opportunity to comment on proposed collections of information in accordance with the Paperwork Reduction Act of 1995 (44 U.S.C. 3506(c)(2)(A)). This program helps to ensure that requested data can be provided in the desired format, reporting burden (time and financial resources) is minimized, collection instruments are clearly understood, and the impact of the collection requirements on respondents can be properly assessed. Through this notice, the Employment and Training Administration is soliciting comments concerning a proposed new collection of data on self-services provided by states and local workforce areas under the Workforce Investment Act and the Wagner-Peyser Act.

A copy of the proposed survey can be obtained by contacting the office listed below in the ADDRESSES section of this notice.

DATES: Written comments must be submitted to the office listed in the ADDRESSES section below on or before November 7, 2003.

ADDRESSES: Daniel Ryan, U.S. Department of Labor, Employment and Training Administration, Office of Policy Development, Evaluation and Research, 200 Constitution Ave, NW., Room N-5637, Washington, DC 20210, (202) 693-3649 Ryan.Dan@dol.gov.

FOR FURTHER INFORMATION CONTACT: Daniel Ryan, tel. (202) 693-3649.

SUPPLEMENTARY INFORMATION:

I. Background

The Department of Labor's Employment and Training Administration (ETA) seeks to collect data from employers and other customers of One-Stop self-services, which are made available under the Workforce Investment Act (WIA) and Wagner-Peyser Act (W-P), as well as from a comparison group of job seekers who did not use WIA or W-P services. The data ETA seeks to collect will provide a snapshot of: (a) Employment-related outcomes that users might have achieved since they accessed self-services, (b) the demographic characteristics of users, (c) their patterns of usage and objectives in using these services, (d) their satisfaction with the services, and (e) other competing resources that they may have used.

Collecting this information is important because self-services—including informational and self-help core services authorized by WIA and self-directed labor exchange services provided as part of W-P—have become an important feature of the nation's workforce development system. Over the past decade, substantial amounts of resources have been expended in developing the infrastructure to support self-services, such as by establishing physical facilities in which “Resource Rooms” can be housed, developing an array of tools and resources to meet diverse needs, ensuring that these resources are user-friendly and are accessible from remote locations, and promoting access and use for customers with special needs. Moreover, the pace of investments has dramatically quickened since the enactment of WIA. It is expected that self-services must be an essential feature of every one of the nation's comprehensive One-Stop centers. WIA requires that access to these services must be universally available without eligibility restrictions.

Moreover, self-services are expected to play a critical role in meeting the nation's workforce development needs. The vision at the heart of WIA is that all adults should have easy access to an array of high-quality resources and information tools that they can use to make informed career decisions and that, more generally, will improve the efficiency of the labor market. Given WIA's emphasis on universal access and the limited public funding available to support staff-intensive workforce development systems, self-services become a critical means by which this vision can be realized.

Currently, however, little is known about how frequently customers use self-services and for what purposes, whether they are satisfied with the tools at their disposal, and whether use of these services improves their employment outcomes. This information vacuum occurs partly because users of self-services are not required to become registrants under either WIA or W-P, and these services are thus not covered by the programs' reporting requirements.

To fill the information gap, ETA is embarking on two data collection efforts focused on self-services. One, the Local Area Survey of Self-Directed Labor Exchange Services (OMB number 1205-0438, expiration date January, 31, 2006) was covered in a previous Federal Register notice (Vol. 67, No. 89, Wed, May 8, 2002: pp. 30965-30966). It elicits information from the nation's local workforce investment areas about the self-service tools and resources that they make available to customers. A second effort, to which this notice applies, will entail a questionnaire administered to customers of self-services in selected local areas, including both employers and other customers, as well as to a comparison group of job seekers. In addition to providing important information in its own right, the survey results will be combined with administrative data so that a quantitative analysis of the outcomes associated with self-services can be conducted.

II. Review Focus

The Department of Labor is particularly interested in comments that: (a) Evaluate whether the proposed collection of information is necessary for the proper performance of the functions of the agency, including whether the information has practical utility; (b) evaluate the accuracy of the agency's estimate of the burden of the proposed collection of information, including the validity of the methodology and assumptions used; (c) enhance the utility, quality and clarity of the information to be collected; and (d) minimize the burden of the collection of information on those who are to respond, including the use of appropriate automated, electronic, mechanical, or other technological collection techniques or other forms of information technology, e.g., permitting electronic submissions of responses.

III. Current Actions

The Department of Labor's Employment and Training Administration will be seeking Office of Management and Budget (OMB) approval to administer the questionnaires to up to 2,000 employer customers, 10,400 other users of self-services, and 2,600 individuals in a job-seeker comparison group. The data will be used to provide a snapshot of customers' usage and satisfaction with One-Stop self-service systems.

Type of Review: New.

Agency: Employment and Training Administration.

Title: Customer Surveys of Self-Directed Labor Exchange Services.

Affected Public: Customers of self-services and other job seekers.

Total Respondents: 2,000 employer customers of self-services, 10,400 other users of self-services, 2,600 other job seekers.

Frequency: Once.

Total Responses: 15,000.

Average Time Per Response: 10 minutes per Employer Survey, 20 minutes per Customer Survey, 10 minutes per Employment-Comparison Survey.

Estimated Total Burden Hours: 3,387.

Total Burden Cost for Capital and Startup: $0.

Total Burden Cost for Operation and Maintenance: $0.

Comments submitted in response to this comment request will be summarized and/or included in the request for OMB approval of the information collection request; they will also become a matter of public record.

Signed at Washington, DC, this 13th day of August, 2003.
Maria K. Flynn,
Acting Administrator.

[FR Doc. 03-22742 Filed 9-5-03; 8:45 am]

BILLING CODE 4510-30-M